DEPARTMENT OF HEALTH AND HUMAN SERVICES

Centers for Medicare & Medicaid Services

[CMS-1459-CN]

Medicare Program; Notification of Closure of Teaching Hospitals and Opportunity To Apply for Available Slots; Correction

AGENCY: Centers for Medicare & Medicaid Services (CMS), HHS.

ACTION: Correction notice.

SUMMARY: This document corrects a typographical error that appeared in the notice published in the Federal Register on May 31, 2013 entitled “Notification of Closure of Teaching Hospitals and Opportunity to Apply for Available Slots.”

FOR FURTHER INFORMATION CONTACT: Miechal Lefkowitz, (212)-616-2517.

SUPPLEMENTARY INFORMATION:

I. Background

In FR Doc. 2013-12952 of May 31, 2013 (78 FR 32663), there was a typographical error that is identified and corrected in the Correction of Errors section below.

II. Summary of Errors

On pages 32663 and 32664 in the May 31, 2013 Federal Register notice, we inadvertently made a typographical error when we misspelled the name of the city in which one of the closed teaching hospitals was located. Specifically, we stated that Montgomery Hospital was located in “Morristown, PA,” instead of “Norristown, PA.”

III. Correction of Errors

In FR Doc. 2013-12952 of May 31, 2013 (78 FR 32663), make the following corrections:

1. On page 32663, third column, first full paragraph, line 4, the location “Morristown, PA” is corrected to read, “Norristown, PA”.

2. On pages 32663 and 32664, in the table titled “Teaching Hospitals Closure,” the third column (City and State), line 2, the location “Morris-town, PA” is corrected to read “Norristown, PA.”

(Catalog of Federal Domestic Assistance Program No. 93.773, Medicare—Hospital Insurance; and Program No. 93.774, Medicare—Supplementary Medical Insurance Program)

Dated: June 25, 2013.
Jennifer M. Cannistra,
Executive Secretary to the Department, Department of Health and Human Services.

[FR Doc. 2013-15756 Filed 7-1-13; 8:45 am]

BILLING CODE 4120-01-P